DEPARTMENT OF COMMERCE

International Trade Administration

[A-580-816]

Corrosion-Resistant Carbon Steel Flat Products from Korea: Extension of Time Limit for the Preliminary Results of the Antidumping Duty Administrative Review

AGENCY: Import Administration, International Trade Administration, Department of Commerce.

ACTION: Notice of extension of time limit for the preliminary results of antidumping duty administrative review.

EFFECTIVE DATE: March 4, 2004.

SUMMARY: The Department of Commerce (“the Department”) is extending the time limit for the final results of the review of corrosion-resistant carbon steel flat products from Korea. This review covers the period August 1, 2002 through July 31, 2003.

FOR FURTHER INFORMATION CONTACT: Michael Ferrier, Kit Rudd, or Paul Walker, AD/CVD Enforcement, Group III, Office 9, Import Administration, International Trade Administration, U.S. Department of Commerce, 14th Street and Constitution Avenue, NW, Washington DC 20230; telephone: (202) 482-2667, (202) 482-1385, and (202) 482-0413, respectively.

Background

On September 30, 2003, the Department published a notice of initiation of a review of corrosion-resistant carbon steel flat products (“CORE”) from Korea covering the period August 1, 2002 through July 31, 2003. See Initiation of Antidumping and Countervailing Duty Administrative Reviews, Request for Revocation in Part and Deferral of Administrative Review: 68 FR 56262 (September 30, 2003).

Extension of Time Limit of Preliminary Results

Section 751(a)(3)(A) of the Tariff Act of 1930, as amended (the Act), requires the Department to make a preliminary determination within 245 days after the last day of the anniversary month of an order or finding for which a review is requested. Section 751(a)(3)(A) of the Act further states that if it is not practicable to complete the review within the time period specified, the administering authority may extend the 245-day period to issue its preliminary results by up to 120 days.

We determine that completion of the preliminary results of this review within the 245-day period is not practicable for the following reasons. This review covers five companies, and to conduct the sales and cost analyses for each requires the Department to gather and analyze a significant amount of information pertaining to each company's sales practices, manufacturing costs and corporate relationships. In addition, the Department is analyzing home market sales of subject merchandise for further processing into non-subject merchandise and subsequent export, as well as issues related to scope exclusions of certain products.

Therefore, given the number and complexity of issues in this case, and in accordance with section 751(a)(3)(A) of the Act, we are extending the time period for issuing the preliminary results of review by 120 days until September 1, 2004. The final results continue to be due 120 days after the publication of the preliminary results.

Dated: February 26, 2004.
Joseph A. Spetrini,
Deputy Assistant Secretary for Import Administration, Group III.

[FR Doc. 04-4863 Filed 3-3-04; 8:45 am]

BILLING CODE 3510-DS-S